DEPARTMENT OF EDUCATION

34 CFR Chapter II

[Docket ID ED-2021-OESE-0036]

Proposed Priorities and Requirement—Innovative Approaches to Literacy

AGENCY: Office of Elementary and Secondary Education, Department of Education.

ACTION: Proposed priorities and requirement.

SUMMARY: The Department of Education (Department) proposes to establish four priorities and one requirement under the Innovative Approaches to Literacy (IAL) program, Assistance Listing Number 84.215G. We may use one or more of these priorities and this requirement for competitions in fiscal year (FY) 2021 and later years. The proposed priorities are intended to expand the range of applicants benefiting from Federal funding and promote greater innovation, by supporting students in urban areas and students from low-income families. The proposed priorities are also designed to enhance the coordination between local educational agencies (LEAs) and school libraries, particularly in carrying out literacy activities, and promote learning environments that are racially, ethnically, culturally, disability and linguistically responsive and inclusive, supportive, and identity-safe.

DATES: We must receive your comments on or before May 6, 2021.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ.”

• Postal Mail, Commercial Delivery, or Hand Delivery: If you mail or deliver your comments about the proposed priorities and requirement, address them to Simon Earle, U.S. Department of Education, 400 Maryland Avenue SW, Room 3E254, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Simon Earle, U.S. Department of Education, 400 Maryland Avenue SW, Room 3E254, Washington, DC 20202-6450. Telephone: (202) 453-7923. Email: Simon.Earle@ed.gov.

If you use a telecommunications device for the deaf (TDD) or a text telephone (TTY), call the Federal Relay Service (FRS), toll-free, at 1-800-877-8339.

SUPPLEMENTARY INFORMATION:

Invitation to Comment: We invite you to submit comments regarding this document. To ensure that your comments have maximum effect in developing the notice of final priorities and requirement, we urge you to identify clearly the specific section of the proposed priorities and requirement that each comment addresses.

In addition to your general comments, recommended clarifications, and specific input on the proposed priorities and requirement, we are particularly interested in your feedback on the following questions:

(1) In Proposed Priority 3, the Department proposes that an LEA would be considered “urban” if it is assigned a National Center for Education Statistics (NCES) locale code of 11, 12, or 13. Are NCES locale codes the most appropriate indicator of urbanicity for the purposes of the proposed priority, or are there other indicators we should consider?

(2) The Department seeks to streamline the application process and minimize applicant burden and confusion. Under Proposed Priority 4, an applicant must demonstrate the extent to which it meets the priority using data from the most recent U.S. Census Bureau's Small Area Income and Poverty Estimates (SAIPE) program. Under the statutory eligibility requirements for this program, an applicant must use SAIPE data to demonstrate that the LEA or LEAs receiving a grant, or to be served by the proposed project, have student populations with at least 20 percent of students from families living below the poverty line. We believe that using the same data source that must be used for eligibility determinations (i.e., SAIPE data) for the proposed priority, with different percentage thresholds, would minimize confusion and burden on applicants. Are there poverty data sources we should consider using for the proposed priority other than SAIPE that would also achieve these goals?

We invite you to assist us in complying with the specific requirements of Executive Orders 12866 and 13563 and their overall requirement of reducing regulatory burden that might result from the proposed priorities and requirement. Please let us know of any further ways we could reduce potential costs or increase potential benefits while preserving the effective and efficient administration of our program.

During and after the comment period, you may inspect all public comments about the proposed priorities and requirement by accessing Regulations.gov. Due to the novel coronavirus 2019 (COVID-19) pandemic, the Department buildings are currently not open to the public. However, upon reopening you may also inspect the comments in person in Room 3E254, 400 Maryland Avenue SW, Washington, DC, between the hours of 8:30 a.m. and 4:00 p.m., Eastern time, Monday through Friday of each week except Federal holidays.

Assistance to Individuals with Disabilities in Reviewing the Rulemaking Record: On request we will provide an appropriate accommodation or auxiliary aid to an individual with a disability who needs assistance to review the comments or other documents in the public rulemaking record for this document. If you want to schedule an appointment for this type of accommodation or auxiliary aid, please contact the person listed under FOR FURTHER INFORMATION CONTACT.

Purpose of Program: The IAL program supports high-quality programs designed to develop and improve literacy skills for children and students from birth through 12th grade in high-need LEAs and schools. The Department intends to promote innovative literacy programs that support the development of literacy skills in low-income communities, including programs that: (1) Develop and enhance effective school library programs, which may include providing professional development for school librarians, books, and up-to-date materials to high-need schools; (2) provide early literacy services, including pediatric literacy programs through which, during well-child visits, medical providers trained in research-based methods of early language and literacy promotion provide developmentally appropriate books and recommendations to parents to encourage them to read aloud to their children starting in infancy; and (3) provide high-quality books on a regular basis to children and adolescents from low-income communities to increase reading motivation, performance, and frequency.

Program Authority: 20 U.S.C. 6646.

Proposed Priorities

This document contains four proposed priorities.

Proposed Priority 1—Projects, Carried Out in Coordination with School Libraries, for Book Distribution, Childhood Literacy Activities, or Both.

Background: The Explanatory Statement for Division H of the Consolidated Appropriations Act, 2021 (Pub. L. 116-260) (2021 Appropriations Explanatory Statement) includes language directing the Department to reserve no less than 50 percent of funds under the IAL program for grants to develop and enhance effective school library programs, which may include providing professional development to school librarians and books and up-to-date materials to high-need schools. 166 Cong. Rec. H8634, 2020. As early as 1992, researchers have found through various studies that there is a positive correlation between high-quality library activities and student achievement. In addition, newer studies, conducted over the last several years, show that strong school libraries are also associated with other important indicators of student success, including graduation rates and mastery of academic standards. In fact, these studies have often found that the benefits associated with good library programs are strongest for the most vulnerable and at-risk learners, including students of color, low-income students, and students with disabilities.¹ Ensuring that children have access to books and childhood literacy activities and are being read to before they can read, is critical to setting them up for future literacy.

¹ Lance, K.C. & Kachel, D.E. (2018). Why school librarians matter: What years of research tell us. PDK International. https://kappanonline.org/lance-kachel-school-librarians-matter-years-research/.

Proposed Priority:

Projects that propose to coordinate with school libraries to carry out grant activities, such as book distributions, childhood literacy activities, or both, for the proposed project.

Proposed Priority 2—Providing a Learning Environment That Is Racially, Ethnically, Culturally, Disability and Linguistically Responsive and Inclusive, Supportive, and Identity-safe.

Background: The school-age population in the United States is becoming more racially and ethnically diverse. According to the 2018 report, Status and Trends in the Education of Racial and Ethnic Groups, in the fall 2015, approximately 30 percent of public school students attended schools in which the combined enrollment of students of color was at least 75 percent of total enrollment, and about 4.9 million public school students were identified as English learners (EL).²

² https://nces.ed.gov/programs/raceindicators/index.asp.

To provide all students with learning opportunities, it is critical that school districts work to create environments that validate and reflect the diversity, identities, and experiences of all students, including students with disabilities. Acknowledging and addressing racial, ethnic, cultural, disability and linguistic differences through program design can help support students from all backgrounds.

As described below, when students see that their unique differences, identities, and experiences are actively acknowledged and valued in the learning environment, they are more likely to be engaged in the learning process. This, in turn, contributes to what has been called an “identity-safe” learning environment. According to the authors Dorothy Steele and Becki Cohn-Vargas, “Identity-safe classrooms are those in which teachers strive to assure students that their social identities are an asset rather than a barrier to success in the classroom. And, through strong positive relationships and opportunities to learn, they feel they are welcomed, supported, and valued as members of the learning community.” ³

³ Steele, D. M. & Cohn-Vargas, B. (2013). Identify Safe Classrooms. Thousand Oaks, Corwin. http://www.identitysafeclassrooms.com/.

The related concept of “windows and mirrors” was developed in the work of Dr. Rudine Sims Bishop. Dr. Bishop wrote that: “When children cannot find themselves reflected in the books they read, or when the images they see are distorted, negative, or laughable, they learn a powerful lesson about how they are devalued in the society of which they are a part. Our classrooms need to be places where all the children from all the cultures that make up the salad bowl of American society can find their mirrors. Children from dominant social groups have always found their mirrors in books, but they, too, have suffered from the lack of availability of books about others. They need books that will help them understand the multicultural nature of the world they live in, and their place as a member of just one group, as well as their connections to all other humans.” ⁴

⁴ https://scenicregional.org/wp-content/uploads/2017/08/Mirrors-Windows-and-Sliding-Glass-Doors.pdf.

Proposed Priority:

Projects designed to be responsive to racial, ethnic, cultural, disability and linguistic differences in a manner that creates inclusive, supportive, and identity-safe learning environments.

In its application, the applicant must—

(a) Describe the types of racially, ethnically, culturally, disability status and linguistically responsive program design elements that the applicant proposes to include in its project; and

(b) Explain how its program design will create inclusive, supportive, and identity-safe environments.

Proposed Priority 3—Supporting Students in Urban Areas.

Background: A consistent challenge facing schools and LEAs in urban areas is the lack of resources. “Each year, it seems, urban schools serve larger concentrations of poor students, racial minorities, and ELs. As higher-income families depart, resources go with them, and schools are faced with the daunting prospect of doing more with less.” ⁵ Additionally, there is a need to ensure that students in urban schools have access to appropriate and necessary resources key to achieving educational gains. The 2021 Appropriations Explanatory Statement includes language directing the Department to ensure that grants are distributed among eligible entities that will serve geographically diverse areas, including underserved communities in urban school districts. 166 Cong. Rec. H8634, 2020. For the purposes of this proposed priority, we propose to consider an LEA to be “urban” if it is assigned one of the following NCES locale codes: ⁶

⁵ Schneider, J. (2017). The Urban-School Stigma. The Atlantic. https://www.theatlantic.com/education/archive/2017/08/the-urban-school-stigma/537966/.

⁶ https://nces.ed.gov/surveys/urbaned/definitions.asp.

Locale code | Type of city | Territory
11 | Large | Inside an Urbanized Area and inside a Principal City with a Population of 250,000 or more.
12 | Midsize | Inside an Urbanized Area and inside a Principal City with a population less than 250,000 and greater than or equal to 100,000.
13 | Small | Inside an Urbanized Area and inside a Principal City with a population less than 100,000.

Proposed Priority:

Projects that are designed to serve one or more urban LEAs. In its application, an applicant must demonstrate one of the following:

(a) The applicant is an eligible LEA or consortium of eligible LEAs with a locale code of 11, 12, or 13; or

(b) The applicant is a national nonprofit that proposes to serve schools within eligible LEAs all of which have a locale code of 11, 12, or 13.

Note: Applicants should retrieve locale codes from the NCES School District search tool (https://nces.ed.gov/ccd/districtsearch/), searching by LEA.

Proposed Priority 4—Supporting Students from Low-Income Families.

Background: To be an eligible LEA under the IAL program, 20 percent or more of the students served by the LEA must be from families with an income below the poverty line. 20 U.S.C. 6646(b)(1)(A). The 2021 Appropriations Explanatory Statement directs the Department to ensure that grants are distributed among eligible entities that will serve geographically diverse areas, including rural areas and underserved communities in urban school districts, in which students from low-income families make up at least 50 percent of enrollment. 166 Cong. Rec. H8634, 2020.

We believe that targeting IAL grants to low-income LEAs is critically important. According to the World Literacy Foundation, more than 60 percent of low-income families have no children's books in their homes.⁷ In proposing this priority, we also carefully consider added burden on prospective applicants. For reasons discussed earlier, we believe that the appropriate data source for this proposed priority is SAIPE. In response to the congressional directive, we researched how many LEAs across the country, urban and otherwise, serve at least 50 percent of students from families living below the poverty line, and determined that this threshold may be too rigorous. In order to address the congressional directive and ensure we are meaningfully prioritizing LEAs that serve high percentages of low-income families, we propose six poverty thresholds from which the Department may choose to use in a notice inviting applications for IAL grants.

⁷ https://worldliteracyfoundation.org/north-america/.

Proposed Priority:

Projects that serve students from low-income families or that serve LEAs serving students from low-income families. In its application, an applicant must demonstrate, based on SAIPE data from the U.S. Census Bureau or, for an LEA for which SAIPE data are not available, the same State-derived equivalent of SAIPE-data that the State uses to make allocations under part A of title I of the Elementary and Secondary Education Act of 1965, as amended (ESEA), one or more of the following:

(a) At least 25 percent of the students enrolled in each of the LEAs to be served by the proposed project are from families with an income below the poverty line.

(b) At least 30 percent of the students enrolled in each of the LEAs to be served by the proposed project are from families with an income below the poverty line.

(c) At least 35 percent of the students enrolled in each of the LEAs to be served by the proposed project are from families with an income below the poverty line.

(d) At least 40 percent of the students enrolled in each of the LEAs to be served by the proposed project are from families with an income below the poverty line.

(e) At least 45 percent of the students enrolled in each of the LEAs to be served by the proposed project are from families with an income below the poverty line.

(f) At least 50 percent of the students enrolled in each of the LEAs to be served by the proposed project are from families with an income below the poverty line.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirement

Background: The types of eligible applicants listed below follow the requirements of the IAL statute and are not considered changed or new. However, the Department is proposing a requirement that would clearly define how an applicant must demonstrate that it meets the eligibility requirement, including the data source and documentation that will be required to be submitted in the grant application by an eligible applicant.

Proposed Requirement:

The Department proposes the following requirement for this program. We may apply this requirement in any year in which this program is in effect.

Eligible Applicants: To be considered for an award under this competition, an applicant must be one or more of the following:

(1) An LEA in which 20 percent or more of the students served by the LEA are from families with an income below the poverty line (as defined in section 8101(41) of the ESEA).

(2) A consortium of such LEAs described in paragraph (1) above.

(3) The Bureau of Indian Education.

(4) An eligible national nonprofit organization (as defined in section 2226(b)(2) of the ESEA) that serves children and students within the attendance boundaries of one or more eligible LEAs.

Note: Under the definition of “poverty line” in section 8101(41) of the ESEA, the determination of the percentage of students served by an LEA from families with an income below the poverty line is based on the U.S. Census Bureau's SAIPE.

An entity that meets the definition of an LEA in section 8101(30) of the ESEA and that serves multiple LEAs, such as a county office of education, an education service agency, or regional service education agency, must provide the most recent SAIPE data for each of the individual LEAs it serves. To determine whether the entity meets the poverty threshold, the Department will derive the entity's poverty rate by aggregating the number of students from families below the poverty line (as provided in SAIPE data) in each of the LEAs the entity serves and dividing it by the total number of students (as provided in SAIPE data) in all of the LEAs the entity serves.

An LEA for which SAIPE data are not available, such as a non-geographic charter school, must provide a determination by the State educational agency (SEA) that 20 percent or more of the students aged 5-17 in the LEA are from families with incomes below the poverty line based on the same State-derived poverty data the SEA used to determine the LEA's allocation under part A of title I of the ESEA.

Final Priorities and Requirement:

We will announce the final priorities and requirement in a notice in the Federal Register. We will determine the final priorities and requirement after considering responses to this document and other information available to the Department. This document does not preclude us from proposing additional priorities, requirements, definitions, or selection criteria, subject to meeting applicable rulemaking requirements.

Note: This document does not solicit applications. In any year in which we choose to use these priorities and the requirement, we invite applications through a notice in the Federal Register.

Executive Orders 12866 and 13563

Regulatory Impact Analysis

Under Executive Order 12866, the Office of Management and Budget (OMB) must determine whether this proposed regulatory action is “significant” and, therefore, subject to the requirements of the Executive Order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We issue the proposed priorities and requirement only on a reasoned determination that the benefits would justify the costs. In choosing among alternative regulatory approaches, we selected those approaches that would maximize net benefits. Based on an analysis of anticipated costs and benefits, we believe that the proposed priorities and requirement are consistent with the principles in Executive Order 13563.

We also have determined that this regulatory action does not unduly interfere with State, local, and Tribal governments in the exercise of their governmental functions.

Potential Costs and Benefits

The Department believes that this proposed regulatory action would not impose significant costs on eligible entities, whose participation in our programs is voluntary, and costs can generally be covered with grant funds. As a result, the proposed priorities and requirement would not impose any particular burden except when an entity voluntarily elects to apply for a grant. The benefits of the proposed priorities and requirement would outweigh any associated costs because they would help ensure that the Department's discretionary grant programs select high-quality applicants to implement activities that are designed to address innovative approaches to literacy. In addition, these proposed priorities and requirement are specifically targeted to prioritize applicants from underserved areas and reduce application burden on such applicants.

Clarity of the Regulations

Executive Order 12866 and the Presidential memorandum “Plain Language in Government Writing” require each agency to write regulations that are easy to understand.

The Secretary invites comments on how to make these proposed priorities and requirement easier to understand, including answers to questions such as the following:

• Are the priorities and requirement in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections?

• Could the description of the proposed regulations in the SUPPLEMENTARY INFORMATION section of this preamble be more helpful in making the proposed regulations easier to understand? If so, how?

• What else could we do to make the proposed regulations easier to understand?

To send any comments that concern how the Department could make the proposed priorities and requirement easier to understand, see the instructions in the ADDRESSES section.

Regulatory Flexibility Act Certification

The Secretary certifies that this proposed regulatory action would not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Of the impacts we estimate accruing to grantees or eligible entities, all are voluntary and related mostly to an increase in the number of applications prepared and submitted annually for competitive grant competitions. Therefore, we do not believe that the proposed priorities and requirement would significantly impact small entities beyond the potential for increasing the likelihood of their applying for, and receiving, competitive grants from the Department.

Paperwork Reduction Act

The proposed priorities and requirement contain information collection requirements that are approved by OMB under OMB control number 1894-0006.

Intergovernmental Review: This program is subject to Executive Order 12372 and the regulations in 34 CFR part 79. One of the objectives of the Executive order is to foster an intergovernmental partnership and a strengthened federalism. The Executive Order relies on processes developed by State and local governments for coordination and review of proposed Federal financial assistance.

This document provides early notification of our specific plans and actions for this program.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of the Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth Ryder,
Deputy Assistant Secretary for Policy and Programs, Office of Elementary and Secondary Education.

[FR Doc. 2021-07027 Filed 4-5-21; 8:45 am]

BILLING CODE 4000-01-P